DEPARTMENT OF ENERGY

Proposed Agency Information Collection

AGENCY: U.S. Department of Energy (DOE), Grid Deployment Office (GDO).

ACTION: Submission for Office of Management and Budget (OMB) review; comment request.

SUMMARY: DOE invites public comment on a proposed collection of information that DOE is developing for submission to OMB pursuant to the Paperwork Reduction Act of 1995. The proposed collection will be used to accept applications and required supporting materials from applicants as required to receive payments for hydroelectric incentive programs.

DATES: Comments regarding this proposed information collection must be received on or before 11:59 p.m. ET on March 20, 2023. If you anticipate difficulty in submitting comments within that period, contact the person listed in FURTHER INFORMATION CONTACT as soon as possible.

ADDRESSES: Written comments may be sent by email to hydroelectricincentives@hq.doe.gov.

FOR FURTHER INFORMATION CONTACT: : Requests for additional information or copies of the information collection instrument and instructions should be directed to Madden Sciubba, madden.sciubba@hq.doe.gov, (240) 798-1195.

SUPPLEMENTARY INFORMATION: Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: “New”; (2) Information Collection Request Title: Hydroelectric Incentive Programs; (3) Type of Request: New; (4) Purpose: GDO proposes to collect, annually applications and required supporting documents from applicants as required to receive payments for hydroelectric incentive programs (“Section 242” Hydroelectric Production Incentives, under 42 U.S.C. 15881; “Section 243” Hydroelectric Efficiency Improvement Incentives, under 42 U.S.C. 15882; and “Section 247” Maintaining and Enhancing Hydroelectricity Incentives, under 42 U.S.C. 15883); (5) Annual Estimated Number of Respondents: 200; (6) Annual Estimated Number of Total Responses: 200; (7) Annual Estimated Number of Burden Hours: 8 hours for each applicant, (1,600 total hours); (8) Annual Estimated Reporting and Recordkeeping Cost Burden: $512 per applicant, annually ($102,400 in total); (9) Respondents/affected entities: businesses and other for-profits; not-for-profits; State, Local or Tribal Governments; Federal Government.

Statutory Authority: 42 U.S.C. 15881-15883

Signing Authority

This document of the Department of Energy was signed on January 12, 2023, by Maria Duaime Robinson, Director of the Grid Deployment Office. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 13, 2023.
Treena V. Garrett,
Federal Register Liaison Officer, U.S. Department of Energy.

[FR Doc. 2023-00967 Filed 1-18-23; 8:45 am]

BILLING CODE 6450-01-P